ENVIRONMENTAL PROTECTION AGENCY

[EPA-R07-SFUND-2020-0105; FRL-10005-78-Region 7]

Notice of Proposed CERCLA Settlement Agreement for Recovery of Past Response Costs

AGENCY: Environmental Protection Agency (EPA).

ACTION: Notice; request for public comment.

SUMMARY: Notice is hereby given by the U.S. Environmental Protection Agency (EPA), Region 7, of a proposed CERCLA 122(h)(1) Settlement Agreement for Recovery of Past Response Costs with Airosol Company, Inc. This agreement pertains to the Airosol Company, Inc. property located at 1206 Illinois Street in Neodesha, Kansas.

DATES: Comments must be received on or before April 6, 2020.

ADDRESSES: The proposed settlement agreement is available for public inspection at EPA Region 7's office. A copy of the proposed agreement may also be obtained from Mr. Steven L. Sanders, EPA Region 7, 11201 Renner Boulevard, Lenexa, Kansas 66219, telephone number (913) 551-7578. You may send comments, identified by Docket ID No. EPA-R07-SFUND-2020-0105 to https://www.regulations.gov. Follow the online instructions for submitting comments. You may also send comments,identified by the Airosol Company, Inc. facility, 1206 Illinois Street, Neodesha, Kansas 66757 to Mr. Sanders at the above address or electronically to sanders.steven@epa.gov.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Steven L. Sanders, Senior Counsel, Office of Regional Counsel, Environmental Protection Agency, Region 7 Office, 11201 Renner Boulevard, Lenexa, Kansas 66219; telephone number (913) 551-7578; email address sanders.steven@epa.gov.

SUPPLEMENTARY INFORMATION:

Written Comments

Submit your comments, identified by Docket ID No. EPA-R07-SFUND-2020-0105 at https://www.regulations.gov. Once submitted, comments cannot be edited or removed from Regulations.gov. The EPA may publish any comment received to its public docket. Do not submit electronically any information you consider to be Confidential Business Information (CBI) or other information whose disclosure is restricted by statute. If CBI exists, please contact Mr. Steven L. Sanders. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Notice is hereby given by the Environmental Protection Agency, Region 7, of a CERCLA 122(h)(1) Settlement Agreement for Recovery of Past Response Costs, with Airosol Company, Inc. This agreement pertains to the Airosol Company, Inc. property located at 1206 Illinois Street in Neodesha, Kansas. Airosol Company, Inc. agrees to pay $300,000 in past response costs over a three-year period.

The settlement includes a covenant by EPA not to sue against Airosol Company, Inc., pursuant to section 107(a) of CERCLA for recovery of past response costs. For thirty (30) days following the date of publication of this document, EPA will receive written comments relating to the settlement. EPA will consider all comments received and may modify or withdraw its consent to the settlement agreement if comments received disclose facts or considerations that indicate that the proposed settlement is inappropriate, improper, or inadequate. EPA's response to any comments received will be available for public inspection at EPA Region 7, 11201 Renner Boulevard, Lenexa, Kansas 66219.

Dated: February 25, 2020.
Mary Peterson,
Director, Superfund Division, EPA Region 7.

[FR Doc. 2020-04437 Filed 3-3-20; 8:45 am]

BILLING CODE 6560-50-P